ENVIRONMENTAL PROTECTION AGENCY

40 CFR Part 81

[KY-116; KY-119-200214b; FRL-7141-8]

Approval and Promulgation of Implementation Plans Reinstatement of Redesignation of Area for Air Quality Planning Purposes; Kentucky Portion of the Cincinnati-Hamilton Area

AGENCY: Environmental Protection Agency (EPA).

ACTION: Proposed rule.

SUMMARY: The Cincinnati-Hamilton moderate 1-hour ozone nonattainment area (Cincinnati-Hamilton area) includes the Ohio Counties of Hamilton, Butler, Clermont, and Warren and the Kentucky Counties of Boone, Campbell, and Kenton. In a Federal Register notice published June 19, 2000, the Cincinnati-Hamilton area was redesignated to attainment for the 1-hour ozone National Ambient Air Quality Standard (NAAQS) effective July 5, 2000. On September 11, 2001, the United States Court of Appeals for the 6th Circuit vacated EPA's redesignation of the Cincinnati-Hamilton area, after concluding that EPA erred in one respect that pertained solely to the Ohio portion of the area. Wall v. EPA, 265 F.3d 426 (6th Cir. 2001). Therefore, in response to the Court's findings, EPA is proposing to reinstate our redesignation to attainment for the 1-hour ozone NAAQS for the Kentucky portion of the Cincinnati-Hamilton area, to become effective as of the effective date of the original redesignation action. EPA is addressing the remand relating to the Ohio portion of the Cincinnati-Hamilton area in a separate rulemaking action. In the Final Rules section of this Federal Register, EPA is taking this reinstatement action as a direct final rule without prior proposal, because the Agency views this as a noncontroversial revision and anticipates no adverse comments. A detailed rationale for the reinstatement is set forth in the direct final rule. If no adverse comments relating to the reinstatement are received in response to this action, no further activity is contemplated. EPA does not intend to reconsider any comments that were, or could have been, presented regarding our original redesignation rulemaking. If EPA receives adverse comments related to the reinstatement, the direct final rulemaking will be withdrawn and all public comments received will be addressed in a subsequent final rule based on this proposed rule. EPA will not institute a second comment period on this document. Any parties interested in commenting on this document should do so at this time.

DATES: Comments must be received on or before March 14, 2002.

ADDRESSES: All comments should be addressed to: Raymond Gregory, Regulatory Development Section, Air Planning Branch, U.S. Environmental Protection Agency Region 4, 61 Forsyth Street, SW., Atlanta, Georgia 30303.

Copies of the Cabinet's original redesignation request, the Court's ruling and other information are available for inspection during normal business hours at the following locations: U.S. Environmental Protection Agency, Region 4, Air Planning Branch, Regulatory Development Section, 61 Forsyth Street, SW., Atlanta, Georgia 30303; Commonwealth of Kentucky, Division for Air Quality, 803 Schenkel Lane, Frankfort, Kentucky 40601-1403. Persons wishing to examine these documents should make an appointment at least 24 hours before the visiting day and reference file KY-116.

FOR FURTHER INFORMATION CONTACT: Raymond Gregory, Environmental Scientist, Regulatory Development Section, Air Planning Branch, U.S. Environmental Protection Agency Region 4, 61 Forsyth Street, SW., Atlanta, Georgia 30303, (404) 562-9116, (gregory.ray@epa.gov).

SUPPLEMENTARY INFORMATION: For additional information see the direct final rule which is published in the Final Rules section of this Federal Register.

Dated: January 22, 2002.
A. Stanley Meiburg,
Acting Regional Administrator, Region 4.

[FR Doc. 02-3356 Filed 2-11-02; 8:45 am]

BILLING CODE 6560-50-P